FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 23, 2012.

A. Federal Reserve Bank of St. Louis (Glenda Wilson, Community Affairs Officer) P.O. Box 442, St. Louis, Missouri 63166-2034:

1. Hilliard R. Crews, individually, and as a member of the Crews family control group (Jason L. Crews, Cynthia Michelle Leslie Crews, Roger L. McGee, and Stacy Crews McGee) all of Collierville, Tennessee, to acquire control of Triumph Bancshares, Inc., Germantown, Tennessee, and thereby indirectly acquire control of Triumph Bank, Memphis Tennessee.

Board of Governors of the Federal Reserve System, March 2, 2012.
Robert deV. Frierson,
Deputy Secretary of the Board.

[FR Doc. 2012-5592 Filed 3-7-12; 8:45 am]

BILLING CODE 6210-01-P